DEPARTMENT OF THE TREASURY

Office of the Comptroller of the Currency

12 CFR Part 30

[Docket No. 05-07]

FEDERAL RESERVE SYSTEM

12 CFR 208 and 225

[Docket No. OP-1155]

FEDERAL DEPOSIT INSURANCE CORPORATION

12 CFR Part 364

DEPARTMENT OF TREASURY

Office of Thrift Supervision

12 CFR Parts 568 and 570

[No. 2005-11]

RIN 1550-AB97

Interagency Guidance on Response Programs for Unauthorized Access to Customer Information and Customer Notice; Correction

AGENCIES: Office of the Comptroller of the Currency, Treasury (OCC); Board of Governors of the Federal Reserve System (Board); Federal Deposit Insurance Corporation (FDIC); Office of Thrift Supervision, Treasury (OTS).

ACTION: Interpretive guidance and OTS final rule; correction.

SUMMARY: The OCC, Board, FDIC and OTS published in the Federal Register on March 29, 2005 interpretive guidance on the Gramm-Leach-Bliley Act (GLBA) and the Interagency Guidelines Establishing Information Security Standards (Security Guidelines). In footnote six of the interpretive guidance, the Federal Trade Commission (“FTC”) citation reads 12 CFR part 314 whereas it should read 16 CFR part 314.

DATES: Effective February 3, 2006.

FOR FURTHER INFORMATION CONTACT: OCC: Aida Plaza Carter, Director, Bank Information Technology, (202) 874-4740; Amy Friend, Assistant Chief Counsel, (202) 874-5200; or Deborah Katz, Senior Counsel, Legislative and Regulatory Activities Division, (202) 874-5090, at 250 E Street, SW., Washington, DC 20219.

Board: Donna L. Parker, Supervisory Financial Analyst, Division of Banking Supervision & Regulation, (202) 452-2614; or Joshua H. Kaplan, Attorney, Legal Division, (202) 452-2249, at 20th and C Streets, NW., Washington, DC 20551.

FDIC: Jeffrey M. Kopchik, Senior Policy Analyst, Division of Supervision and Consumer Protection, (202) 898-3872; Kathryn M. Weatherby, Examiner Specialist, Division of Supervision and Consumer Protection, (202) 898-6793; or Robert Lee, Counsel, Legal Division, (202) 898-8803, at 550 17th Street, NW., Washington, DC 20429.

OTS: Lewis C. Angel, Program Manager, (202) 906-5645; Glenn Gimble, Senior Project Manager, Consumer Protection and Specialized Programs, (202) 906-7158; or Richard Bennett, Counsel, Regulations and Legislation Division, (202) 906-7409, at 1700 G Street, NW., Washington, DC 20552.

SUPPLEMENTARY INFORMATION: The OCC, Board, FDIC, and OTS published a document in the Federal Register of March 29, 2005 (70 FR 15736), the “Interagency Guidance on Response to Programs for Unauthorized Access to Customer information and Customer Notice”. There was an error in footnote 6 of the interpretive guidance regarding the Federal Trade Commission citation. It reads 12 CFR part 314 whereas it should read 16 CFR part 314.

List of Subjects

12 CFR Part 30

Banks, banking, Consumer protection, National banks, Privacy, Reporting and recordkeeping requirements.

12 CFR Part 208

Banks, banking, Consumer protection, Information, Privacy, Reporting and recordkeeping requirements.

12 CFR Part 225

Banks, banking, Holding companies, Reporting and recordkeeping requirements.

12 CFR Part 364

Administrative practice and procedure, Bank deposit insurance, Banks, banking, Reporting and recordkeeping requirements, Safety and Soundness.

12 CFR Part 568

Consumer protection, Privacy, Reporting and recordkeeping requirements, Savings associations, Security measures.

12 CFR Part 570

Accounting, Administrative practice and procedure, Bank deposit insurance, Consumer protection, Holding companies, Privacy, Reporting and recordkeeping requirements, Safety and soundness, Savings associations.

Department of the Treasury

Office of the Comptroller of the Currency

12 CFR Chapter I

Authority and Issuance

For the reasons set out in the joint preamble, the OCC corrects part 30 of chapter I of title 12 of the Code of Federal Regulations by making the following correcting amendments:

PART 30—SAFETY AND SOUNDNESS STANDARDS

1. The authority citation for part 30 continues to read as follows:

Authority: 12 U.S.C. 93a, 371, 1818, 1831p, 3102(b); 15 U.S.C. 1681s, 1681w, 6801, 6805(b)(1).

Appendix B to Part 30—[Amended]

2. In Supplement A to Appendix B, amend footnote 6 by removing “12 CFR part 314” and adding in its place “16 CFR part 314”.

Federal Reserve System

12 CFR Chapter II

Authority and Issuance

For the reasons set out in the joint preamble, the Board corrects parts 208 and 225 of chapter II of title 12 of the Code of Federal Regulations by making the following correcting amendments:

PART 208—MEMBERSHIP OF STATE BANKING INSTITUTIONS IN THE FEDERAL RESERVE SYSTEM (REGULATION H)

3. The authority citation for part 208 continues to read as follows:

Authority: 12 U.S.C. 24, 36, 92a, 93a, 248(a), 248(c), 321-338a, 371d, 461, 481-486, 601, 611, 1814, 1816, 1820(d)(9), 1823(j), 1828(o), 1831, 1831o, 1831p-1, 1831r-1, 1831w, 1831x, 1835a, 1882, 2901-2907, 3105, 3310, 3331-3351, and 3906-3909, 15 U.S.C. 78b, 781(b), 781(g), 781(i), 78o-4(c)(5), 78q, 78q-1, 78w, 1681s, 1681w, 6801 and 6805; 31 U.S.C. 5318, 42 U.S.C. 4012a, 4104a, 4104b, 4106, and 4128.

Appendix D-2 to Part 208—[Amended]

4. In Supplement A to Appendix D-2, amend footnote 6 by removing “12 CFR part 314” and adding in its place “16 CFR part 314”.

PART 225—BANK HOLDING COMPANIES AND CHANGE IN BANK CONTROL (REGULATION Y)

5. The authority citation for 12 CFR part 225 continues to read as follows:

Authority: 12 U.S.C. 1817(j)(13), 1818, 1828(o), 1831i, 1831p-1, 1843(c)(8), 1844(b), 1972(1), 3106, 3108, 3310, 3331-3351, 3906, 3907, and 3909; 15 U.S.C. 1681s, 1681w, 6801 and 6805.

Appendix F to Part 225—[Amended]

6. In Supplement A to Appendix F, amend footnote 6 by removing “12 CFR part 314” and adding in its place “16 CFR part 314”.

Federal Deposit Insurance Corporation

12 CFR Chapter III

Authority and Issuance

For reasons set out in the joint preamble, the FDIC corrects part 364 of chapter III of title 12 of the Code of Federal Regulations by making the following correcting amendments:

PART 364—STANDARDS FOR SAFETY AND SOUNDNESS

7. The authority citation for part 364 continues to read as follows:

Authority: 12 U.S.C. 1819 and 1819 (Tenth); 15 U.S.C. 1681b, 1681s, and 1681w.

Appendix B to Part 364—[Amended]

8. In Supplement A to Appendix B, amend footnote 6 by removing “12 CFR part 314” and adding in its place “16 CFR part 316”.

Department of the Treasury

Office of Thrift Supervision

12 CFR Chapter V

Authority and Issuance

For reasons set out in the joint preamble the OTS corrects part 570 of chapter V of title 12 of the Code of Federal Regulations by making the following correcting amendment to read as follows”

PART 570—SAFETY AND SOUNDNESS GUIDELINES AND COMPLIANCE PROCEDURES

9. The authority citation for part 570 continues to read as follows:

Authority: 12 U.S.C. 1462a, 1463, 1464, 1467a, 1828, 1831p-1, 1881-1884; 15 U.S.C. 1681s and 1681w; 15 U.S.C. 6801 and 6805(b)(1).

Appendix B to Part 570—[Amended]

10. In Supplement A to Appendix B, amend footnote 6 by removing “12 CFR part 314” and adding in its place “16 CFR part 314”.

Dated: January 24, 2006.
Julie L. Williams,
First Senior Deputy Comptroller and Chief Counsel.
By order of the Board of Governors of the Federal Reserve System, January 17, 2006.
Jennifer J. Johnson,
Secretary of the Board.
Dated at Washington, DC, this 31st day January, 2006.
Robert E. Feldman,
Executive Secretary.
Dated: January 30, 2006.
Deborah Dakin,
Senior Deputy Chief Counsel.

[FR Doc. 06-1009 Filed 2-2-06; 8:45 am]

BILLING CODE 4810-33-P; 6210-01-P; 6714-10-P; 6720-01-P